FEDERAL COMMUNICATIONS COMMISSION

47 CFR Parts 73 and 79

[MB Docket No. 11-43; FCC 11-126]

Video Description Implementation of the Twenty-First Century Communications and Video Accessibility Act of 2010

Action: Final rules; announcement of effective date.

SUMMARY: In this document, the Commission announces that the Office of Management and Budget (OMB) has approved, for a period of three years, the information collection requirements contained in the regulations for issues relating to the video description rules. The final information collection requirements were approved on September 8, 2011 by OMB. The Commission received OMB preapproval for the proposed requirements on April 22, 2011. The information collection requirements were adopted as proposed.

DATES: The amendments to 47 CFR 79.3(d) and (e), published at 76 FR 55585, September 8, 2011, are effective on October 11, 2011.

FOR FURTHER INFORMATION CONTACT: For additional information contact Cathy Williams on (202) 418-2918 or via e-mail to: cathy.williams@fcc.gov.

SUPPLEMENTARY INFORMATION: This document announces that on September 8, 2011, OMB approved, for a period of three years, the information collection requirements contained in 47 CFR 79.3(d) and (e). The Commission publishes this document to announce the effective date of the rule sections. See, In the Matter of Video Description: Implementation of the Twenty-First Century Communications and Video Accessibility Act of 2010, MB Docket No. 11-43; FCC 11-126, 76 FR 55585, September 8, 2011.

Synopsis

As required by the Paperwork Reduction Act of 1995, (44 U.S.C. 3507), the Commission is notifying the public that it received OMB approval on September 8, 2011, for the information collection requirement contained in 47 CFR 79.3(d) and (e). Under 5 CFR part 1320, an agency may not conduct or sponsor a collection of information unless it displays a current, valid OMB Control Number.

No person shall be subject to any penalty for failing to comply with a collection of information subject to the Paperwork Reduction Act that does not display a valid OMB Control Number.

The OMB Control Number is 3060-1148 and the total annual reporting burdens for respondents for this information collection are as follows:

Title: Video Description of Video Programming.

Form No.: Not applicable.

Type of Review: New Collection.

OMB Control Number: 3060-1148.

OMB Approval Date: 09/08/2011.

OMB Expiration Date: 04/30/2014.

Respondents: Individuals or households; Businesses or other for-profit entities; Not-for-profit institutions.

Number of Respondents: 76 respondents; 80 responses.

Estimated Time Per Response: 1-5 hours.

Frequency of Response: On occasion reporting requirement.

Obligation to Respond: Voluntary and required to obtain or retain benefits. The statutory authority for this information collection is contained in 47 U.S.C. 613(f).

Total Annual Burden: 144 hours.

Total Annual Cost: $26,250.

Nature and Extent of Confidentiality: Confidentiality is an issue to the extent that individuals and households provide personally identifiable information, which is covered under the FCC's system of records notice (SORN), FCC/CGB-1, “Informal Complaints and Inquiries.” As required by the Privacy Act, 5 U.S.C. 552a, the Commission also published a SORN, FCC/CGB-1 “Informal Complaints and Inquiries”, in the Federal Register on December 15, 2009 (74 FR 66356) which became effective on January 25, 2010.

Privacy Act Impact Assessment: Yes. The Privacy Impact Assessment (PIA) was completed on June 28, 2007. It may be reviewed at: http://www.fcc.gov/omd/privacyact/Privacy_Impact_Assessment.html. The Commission is in the process of updating the PIA to incorporate various revisions made to the SORN.

Needs and Uses: The Commission received final approval for the information collection requirements contained in MB Docket No. 11-43; FCC 11-126 from the Office of Management and Budget (OMB) on September 8, 2011. This rulemaking contains information collection requirements that support the Commission's video description rules that would be codified at 47 CFR 79.3, as required by the Twenty-First Century Communications and Video Accessibility Act of 2010 (“CVAA”). In 2000, the Commission adopted rules requiring certain broadcasters and multichannel video program distributors (MVPDs) to carry programming with video description. The United States Court of Appeals for the District of Columbia Circuit vacated the rules due to insufficient authority soon after their initial adoption. The CVAA directs the Commission to reinstate those rules, with certain modifications, on October 8, 2011.

The information collection requirements consist of:

Petitions for exemption based on “economic burden.”

Pursuant to 47 CFR 79.3(d), a video programming provider may petition the Commission for a full or partial exemption from the video description requirements based upon a showing that they would be economically burdensome.

Petitions for exemption must by filed with the Commission, placed on Public Notice, and be subject to comment from the public.

Complaints alleging violations of the video description rules.

Section 79.3(e) provides that a complaint alleging a violation of the video description rules may be transmitted to the Commission by “any reasonable means” that would best accommodate the complainant's disability, and that each complaint must include:

The name and address of the complainant;

The name and address of the broadcast station against whom the complaint is alleged and its call letters and network affiliation, or the name and address of the MVPD against whom the complaint is alleged and the name of the network that provides the programming that is the subject of the complaint;

A statement of facts sufficient to show that the video programming distributor has violated or is violating the Commission's rules, and, if applicable, the date and time of the alleged violation;

The specific relief or satisfaction sought by the complainant;

The complainant's preferred format or method of response to the complaint (such as letter, facsimile transmission, telephone (voice/TRS/TTY), Internet e-mail, or some other method that would best accommodate the complainant's disability); and

A certification that the complainant attempted in good faith to resolve the dispute with the broadcast station or MVPD against whom the complaint is alleged.

Federal Communications Commission.
Marlene H. Dortch,
Secretary, Office of the Secretary, Office of Managing Director.

[FR Doc. 2011-23382 Filed 9-13-11; 8:45 am]

BILLING CODE 6712-01-P